DEPARTMENT OF STATE

[Public Notice 7901]

Determination and Certification Under the Arms Export Control Act

Pursuant to section 40A of the Arms Export Control Act (22 U.S.C. 2781), and Executive Order 11958, as amended, I hereby determine and certify to the Congress that the following countries are not cooperating fully with United States antiterrorism efforts:

Cuba, Eritrea, Iran, Democratic People's Republic of Korea (DPRK, or North Korea), Syria, Venezuela.

This determination and certification shall be transmitted to the Congress and published in the Federal Register.

Dated: May 8, 2012.
William J. Burns,
Deputy Secretary of State.

[FR Doc. 2012-13096 Filed 5-29-12; 8:45 am]

BILLING CODE 4710-10-P